DEPARTMENT OF ENERGY

Agency Information Collection Extension; Revision to Currently Approved Collection

AGENCY: Department of Energy.

ACTION: Submission for Office of Management and Budget (OMB) review; comment request.

SUMMARY: The Department of Energy (DOE), pursuant to the Paperwork Reduction Act of 1995, intends to extend for three years, an information collection request with the OMB.

DATES: Comments regarding this collection must be received on or before December 6, 2021. If you anticipate difficulty in submitting comments within that period, contact the person listed below as soon as possible.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection instrument and instructions should be directed by phone to Jonathan Parthum at (202) 586-5120 or by email at jonathan.parthum@hq.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden on respondents, including through the use of automated collection techniques or other forms of information technology.

This information collection request contains: (1) OMB No.: 1910-0800; (2) Information Collection Request Title: Legal Collections; (3) Type of Review: Renewal and Revision; (4) Purpose: To continue to maintain DOE oversight of responsibilities relating to DOE and Contractor invention reporting and related matters; (5) Annual Estimated Number of Respondents: 1525; (6) Annual Estimated Number of Total Responses: 1830; (7) Annual Estimated Number of Burden Hours: 4412.4; (8) Annual Estimated Reporting and Recordkeeping Cost Burden: $199,087.49.

The revision consists of updates to two documents: DOE F 482.2 and DOE F 2050.11. For DOE F 482.2, the form is modified to add a Patents Rights-Waiver Clause Including U.S. Competitiveness terms and conditions acceptance to the beginning of the document. As for DOE F 2050.11, this form is modified to add the appropriate Paperwork Reduction Act statement that is currently included in each of the other documents within the collection.

Statutory Authority: 42 U.S.C. 5908(a) (b) and (c); 37 CFR part 404; 10 CFR part 784.

Signing Authority: This document of the Department of Energy was signed on November 2, 2021, by Brian Lally, Assistant General Counsel for Technology Transfer and Intellectual Property, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect on this document upon publication in the Federal Register.

Signed in Washington, DC, on November 2, 2021.
Treena V. Garrett,
Federal Register Liaison Officer, U.S. Department of Energy.

[FR Doc. 2021-24270 Filed 11-4-21; 8:45 am]

BILLING CODE 6450-01-P